DEPARTMENT OF ENERGY

Federal Energy Regulatory Commission

[Project No. 2069-007 Arizona]

Arizona Public Service Company; Notice of Availability of Draft Environmental Assessment

June 4, 2003.

In accordance with the National Environmental Policy Act of 1969 and the Federal Energy Regulatory Commission's (Commission) regulations, 18 CFR part 380 (Order No. 486, 52 FR 47897), the Office of Energy Projects has reviewed the application for surrender of license for the major, constructed Childs Irving Hydroelectric Project. The project is located on Fossil Creek, in Yavapai and Gila counties, Arizona. The project is located entirely on lands of the National Forest System: it occupies 326.8 acres within the Coconino National Forest and 17.2 acres within the Tonto National Forest. The Commission staff has prepared a Draft Environmental Assessment (DEA) on the license surrender.

The DEA contains the staff's analysis of the potential environmental impacts of the retirement of the project and the removal of most of the project facilities, and has concluded that surrendering the license, with appropriate environmental protection measures, would not constitute a major federal action that would significantly affect the quality of the human environment.

A copy of the DEA is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via e-mail of new filings and issuances related to this or other pending projects. For assistance, contact FERC Online Support.

Any comments should be filed within 30 days from the date of this notice and should be addressed to Magalie R. Salas, Secretary, Federal Energy Regulatory Commission, 888 First Street, NE., Washington, DC 20426. Please affix Project No. 2069-007 to all comments. Comments may be filed electronically via the Internet in lieu of paper. The Commission strongly encourages electronic filings. See 18 CFR 385.2001(a)(1)(iii) and the instructions on the Commission's Web site (http://www.ferc.gov) under the “e-Filing” link.

For further information, contact Dianne Rodman, Environmental Coordinator, at (202) 502-6077.

Magalie R. Salas,
Secretary.

[FR Doc. 03-14612 Filed 6-10-03; 8:45 am]

BILLING CODE 6717-01-P